DEPARTMENT OF ENERGY

Federal Energy Regulatory Commission

[Docket No. CP19-118-000]

Trans-Foreland Pipeline Company, LLC; Notice of Schedule for Environmental Review of the Kenai LNG Cool Down Project

On March 29, 2019, Trans-Foreland Pipeline Company, LLC filed an application in Docket No. CP19-118-000 requesting an authorization pursuant to Section 3(a) of the Natural Gas Act to construct and operate certain liquefied natural gas (LNG) facilities. The proposed project is known as the Kenai LNG Cool Down Project (Project), and would allow the Kenai LNG Plant to provide up to 7.0 million standard cubic feet per day of natural gas to Trans-Foreland's affiliated Kenai Refinery adjacent to the Kenai LNG Plant.

On April 12, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—December 13, 2019

90-day Federal Authorization Decision Deadline—March 12, 2020

If a schedule change becomes necessary, additional notice will be provided so that the relevant agencies are kept informed of the Project's progress.

Project Description

Trans-Foreland proposes to make facility modifications to bring parts of Kenai LNG Plant out of its current warm idle status to allow for the import of LNG. Trans-Foreland proposes to install, construct, and operate a new 1,000 horsepower electric-driven boil-off-gas (BOG) booster compressor unit, trim vaporizers, additional LNG transfer system valves, equipment to manage the existing BOG facilities (collectively referred to as the BOG Management System), and ancillary facilities to facilitate the import of LNG to cool down the existing LNG storage tanks and associated LNG facilities.

Background

On May 13, 2019, the Commission issued a Notice of Intent to Prepare an Environmental Assessment for the Proposed Kenai LNG Cool Down Project and Request for Comments on Environmental Issues (NOI). The NOI was sent to affected landowners; federal, state, and local government agencies; elected officials; environmental and public interest groups; Native American tribes; other interested parties; and local libraries and newspapers. In response to the NOI, the Commission received comments from the Alaska State Historic Preservation Office regarding the Section 106 of the National Historic Preservation Act consultation, noting that the existing LNG facilities may be a historic property. All substantive comments will be addressed in the EA.

The U.S. Coast Guard, U.S. Department of Energy, and the U.S. Department of Transportation are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 19, 2019.
Nathaniel J. Davis, Sr.,
Deputy Secretary.

[FR Doc. 2019-13717 Filed 6-26-19; 8:45 am]

BILLING CODE 6717-01-P